DEPARTMENT OF THE INTERIOR

Fish and Wildlife Service

Notice of Intent to Prepare Comprehensive Conservation Plans for Okefenokee National Wildlife Refuge, Charlton, Ware, and Clinch Counties, Georgia, and Baker County, Florida; and Banks Lake National Wildlife Refuge, Lanier County, Georgia

SUMMARY: This notice advises the public that the Fish and Wildlife Service intends to gather information necessary to prepare a comprehensive conservation plan and associated environmental documents for each of the above stated refuges, pursuant to the Service's Comprehensive Conservation Planning Policy and the National Environmental Policy Act and implementing regulations to achieve the following:

(1) advise other agencies and the public of our intentions; and

(2) obtain suggestions and information on the scope of issues to include in the environmental documents.

DATES: The Service intends to hold public scoping meetings and collect information and suggestions through November 1, 2001, for Okefenokee National Wildlife Refuge, and December 31, 2001, for Banks Lake National Wildlife Refuge. A minimum of two meetings will be held regarding the plan for Okefenokee Refuge and one meeting will be held for Banks Lake Refuge. Mailings, newspaper articles, radio announcements, and postings on the refuge webstie will be the avenues to inform the public of the dates and times for these meetings.

ADDRESSES: Address comments and requests for more information to the following: Refuge Manager, Okefenokee National Wildlife Refuge, Comprehensive Conservation Planning, Route 2, Box 3330, Folkston, Georgia 31537, (912) 496-7366, (912) 496-3332 (Fax).

Information concerning these refuges may be found at the following website:

http://okefenokee.fws.gov

If you wish to comment, you may submit your comments by any one of several methods. you may mail comments to the above address. you may also comment via the Internet to the following address: sara_aicher@fws.gov. Please submit Internet comments as an ASCII file avoiding the use of special characters and any form of encryption. Please also include your name and return address in your Internet message. If you do not receive a confirmation from the system that we have received your Internet message, contact Sara Aicher directly at the above address. finally, you may hand-deliver comments to Sara Aicher at Okefenokee National Wildlife Refuge-East Entrance, 11 miles southwest of Folkston, Georgia. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved comprehensive conservation plan. The plan guides management decisions and identifies the goals, objectives, and strategies for achieving refuge purposes. Public input into this planning process is encouraged. The plan will provide other agencies and the public with a clear understanding of the desired conditions of the refuge and how the Service will implement management strategies.

Okefenokee National Wildlife Refuge was established by Executive Order in 1937 and consists of 395,080 acres. The primary purpose of the refuge is to protect the ecological system of the 438,000-acre Okefenokee Swamp. In 1986, the refuge was designated by the Wetlands Convention as a Wetland of International Importance.

Banks Lake National Wildlife Refuge, established in February 1985, was authorized under the Fish and Wildlife Act of 1956, and funded through provisions of the Land and Water Conservation Fund Act of 1955. The purpose of the refuge is to protect and conserve a unique environment and migratory and resident wildlife.

Dated: March 30, 2001.
H. Dale Hall,
Acting Regional Director.

[FR Doc. 01-10143 Filed 4-23-01; 8:45 am]

BILLING CODE 4310-55-M